NUCLEAR REGULATORY COMMISSION

Advisory Committee on Reactor Safeguards

In accordance with the purposes of Sections 29 and 182b of the Atomic Energy Act (42 U.S.C. 2039, 2232b), the Advisory Committee on Reactor Safeguards (ACRS) will hold a meeting on April 2-4, 2009, 11545 Rockville Pike, Rockville, Maryland. The date of this meeting was previously published in the Federal Register on Monday, October 6, 2008, (73 FR 58268-58269).

Thursday, April 2, 2009, Conference Room T-2B3, Two White Flint North, Rockville, Maryland

8:30 a.m.-8:35 a.m.: Opening Remarks by the ACRS Chairman (Open)—The ACRS Chairman will make opening remarks regarding the conduct of the meeting.

8:35 a.m.-10 a.m.: License Renewal Application and Final Safety Evaluation Report (SER) for the Vogtle Nuclear Plant (Open)—The Committee will hear presentations by and hold discussions with representatives of the NRC staff and Southern Nuclear Operating Company (SNC) regarding the Vogtle Nuclear Plant License Renewal Application, the associated NRC staff's final SER, and related matters.

10:15 a.m.-12 p.m.: Digital Instrumentation and Control (I&C) Interim Staff Guidances (ISGs) (Open)—The Committee will hear presentations by and hold discussions with representatives of the NRC staff regarding Digital I&C ISGs on: Highly Integrated Control Room—Human Factors, Licensing Process Issues, and related matters.

1 p.m.-2:30 p.m.: License Renewal Application and Final Safety Evaluation Report for the National Institute of Standards and Technology (NIST) Reactor (Open)—The Committee will hear presentations by and hold discussions with representatives of the NRC staff and NIST regarding the License Renewal Application for the NIST Reactor, the associated NRC staff's final SER, and related matters.

2:45 p.m.-4:15 p.m.: Draft Final Regulatory Guide 1.211—“Qualification of Safety-Related Cables and Field Splices for Nuclear Power Plants” (Open)—The Committee will hear presentations by and hold discussions with representatives of the NRC staff and the Nuclear Utility Group on Equipment Qualification (NUGEQ) regarding Draft Final Regulatory Guide 1.211 and related matters.

4:30 p.m.-7 p.m.: Preparation of ACRS Reports (Open)—The Committee will discuss proposed ACRS reports on matters discussed during this meeting, as well as a proposed report on the Draft Final Revision 2 to Regulatory Guide 1.200, “An Approach for Determining the Technical Adequacy of Probabilistic Risk Assessment Results for Risk-Informed Activities.”

Friday, April 3, 2009, Conference Room T-2B3, Two White Flint North, Rockville, Maryland

8:30 a.m.-8:35 a.m.: Opening Remarks by the ACRS Chairman (Open)—The ACRS Chairman will make opening remarks regarding the conduct of the meeting.

8:35 a.m.-10:30 a.m.: Risk Metrics for New Light-Water Reactor Risk-Informed Applications (Open)—The Committee will hear presentations by and hold discussions with representatives of the NRC staff regarding risk metrics for new light-water reactor risk-informed applications and related matters.

10:45 a.m.-11 a.m.: Subcommittee Reports (Open)—The Committee will hear reports by and hold discussions with the Chairman of the Plant License Renewal Subcommittee regarding interim reviews of the Three Mile Island Unit 1 and the Susquehanna Steam Electric Station License Renewal Applications, and the associated NRC staff's Safety Evaluation Reports with Open Items. The Committee will also hear a report by and hold discussions with the Chairman of the Reliability and PRA Subcommittee regarding revisions to NUREG-1855, Appendix A, “Example Implementation of the Process for the Treatment of PRA Uncertainty in a Risk-Informed Regulatory Application.”

11 a.m.-11:45 a.m.: Future ACRS Activities/Report of the Planning and Procedures Subcommittee (Open/Closed)—The Committee will discuss the recommendations of the Planning and Procedures Subcommittee regarding items proposed for consideration by the full Committee during future ACRS meetings and other matters related to the conduct of the ACRS.

[Note: A portion of this session may be closed pursuant to 5 U.S.C. 552b (c)(2) and (6) to discuss organizational and personnel matters that relate solely to internal personnel rules and practices of ACRS, and information the release of which would constitute a clearly unwarranted invasion of personal privacy.]

11:45 a.m.-12 p.m.: Reconciliation of ACRS Comments and Recommendations (Open)—The Committee will discuss the responses from the NRC Executive Director for Operations to comments and recommendations included in recent ACRS reports and letters.

1 p.m.-7 p.m.: Preparation of ACRS Reports (Open)—The Committee will discuss proposed ACRS reports.

Saturday, April 4, 2009, Conference Room T-2B3, Two White Flint North, Rockville, Maryland

8:30 a.m.-1 p.m.: Preparation of ACRS Reports (Open)—The Committee will continue its discussion of proposed ACRS reports.

1 p.m.-1:15 p.m.: Miscellaneous (Open)—The Committee will discuss matters related to the conduct of Committee activities and specific issues that were not completed during previous meetings, as time and availability of information permit.

Procedures for the conduct of and participation in ACRS meetings were published in the Federal Register on October 6, 2008, (73 FR 58268-58269). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close a portion of this meeting noted above to discuss organizational and personnel matters that relate solely to internal personnel rules and practices of ACRS, and information the release of which constitute a clearly unwarranted invasion of personal privacy pursuant to 5 U.S.C. 552b(c)(2) and (6).

Further information regarding topics to be discussed, whether the meeting has been canceled or rescheduled, as well as the Chairman's ruling on requests for the opportunity to present oral statements and the time allotted therefor can be obtained by contacting Girija Shukla, Cognizant ACRS staff (301-415-6855), between 7:15 a.m. and 5 p.m. (ET). ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m.— and 3:45 p.m., (ET), at least 10 days before the meeting to ensure the availability of this service. Individuals or organizations requesting this service will be responsible for telephone line charges and for providing the equipment and facilities that they use to establish the video teleconferencing link. The availability of video teleconferencing services is not guaranteed.

Dated: March 10, 2009.
Andrew L. Bates,
Advisory Committee Management Officer.

[FR Doc. E9-5610 Filed 3-13-09; 8:45 am]

BILLING CODE 7590-01-P